DEPARTMENT OF ENERGY

Federal Energy Regulatory Commission

[Docket Nos. ER99-2156-003, et al.]

Cordova Energy Company, LLC, et al.; Electric Rate and Corporate Filings

May 5, 2006.

The following filings have been made with the Commission. The filings are listed in ascending order within each docket classification.

1. Cordova Energy Company LLC

[Docket No. ER99-2156-003]

Take notice that on April 28, 2005, Cordova Energy Company LLC submitted an updated market power analysis.

Comment Date: 5 p.m. Eastern Time on May 19, 2005.

2. Walton Electric Membership Corporation

[Docket No. ER02-2001-000, ER01-1400-000]

Take notice that on July 6, 2004, Walton Electric Membership Corporation filed a Request for Waiver of Order No. 2001 Electric Quarterly Reports Requirements.

Comment Date: 5 p.m. Eastern Time on May 26, 2005.

3. Pacific Gas & Electric Company

[Docket No. ER03-198-002]

Take notice that on April 28, 2005, Pacific Gas & Electric Company (PG&E) submitted for filing a notification of change in status due to PG&E's recent execution (and receipt of regulatory approval) of energy procurement contracts with various counterparties. PG&E states that this transmittal will ensure compliance with the Commission's recently finalized reporting requirement, issued on February 10, 2005, Reporting Requirement for Changes in Status for Public Utilities with Market-Based Rate Authority, 110 FERC, 61,097 (2005).

Comment Date: 5 p.m. Eastern Time on May 19, 2005.

4. Virginia Electric and Power Company

[Docket No. ER04-1021-001]

Take notice that on April 28, 2005, Virginia Electric and Power Company, (Dominion Virginia Power) tendered for filing Eleventh Revised Service Agreement Nos. 253 and 49 under Virginia Electric and Power Company FERC Electric Tariff, Second Revised Volume No. 5, unexecuted agreements with Sempra Trading Corp. The April 28, 2005 filing amends Dominion Virginia Power's filing submitted on July 15, 2004 in Docket No. ER04-1021-000. Dominion Virginia Power requests an effective date of November 1, 2004.

Dominion Virginia Power states that copies of this filing were served upon Sempra Energy Trading Corp.

Comment Date: 5 p.m. Eastern Time on May 19, 2005.

5. Virginia Electric and Power Company

[Docket No. ER04-1023-001]

Take notice that on April 28, 2005, Virginia Electric and Power Company, (Dominion Virginia Power) tendered for filing Second Revised Service Agreement Nos. 379 and 380 under Virginia Electric and Power Company FERC Electric Tariff, Second Revised Volume No. 5, service agreements with Ingenco Wholesale Power LLC. The April 28, 2005 filing amends Dominion Virginia Power's filing submitted on July 15, 2004 in Docket No. ER04-1023-000. Dominion Virginia Power requests an effective date of November 1, 2004.

Dominion Virginia Power states that copies of this filing were served upon Ingenco Wholesale Power LLC.

Comment Date: 5 p.m. Eastern Time on May 19, 2005.

6. PSI Energy, Inc.

[Docket No. ER05-225-001]

Take notice that on April 29, 2005, PSI Energy, Inc. (PIS) submitted an errata to its November 17, 2004 submittal in Docket No. ER05-225-000 regarding a Stipulation and Agreement dated November 8, 2004 for an uncontested three-step increase in PSI's wholesale electric rates with Indiana Municipal Power Agency and other customers receiving wholesale electric service from PSI. PSI states that the purpose of the errata filing is to correct the header information on certain tariff sheets included in the November 17, 2004, filing in accordance with Order No. 614 and that no information on the previously filed tariff sheets has been revised. PSI indicates that the affected tariff sheets are for phases 2 and 3 of the three-step rate increase. PSI requests an effective date July 1, 2005 and January 1, 2006, respectively.

PSI states that the copies of the filing were served upon the affected customers and the Indiana Utility Regulatory Commission.

Comment Date: 5 p.m. Eastern Time on May 10, 2005.

7. Southwest Power Pool, Inc.

[Docket No. ER05-666-001]

Take notice that on April 28, 2005, Southwest Power Pool, Inc. (SPP) submitted a response to the Commission's April 21, 2005 deficiency letter regarding SPP's March 1, 2005 filing in Docket No. ER05-666-000. SPP requests severance of the liability components from its March 1, 2005 filing and approval of the other revisions to its regional Open Access Transmission Tariff. SPP requests an effective date of May 1, 2005.

Comment Date: 5 p.m. Eastern Time on May 19, 2005.

8. Carolina Power & Light Company, Florida Power Corporation

[Docket No. ER05-882-000]

Take notice that on April 29, 2005, Carolina Power & Light Company (CP&L) and Florida Power Corporation (FPC) submitted revised tariff sheets replacing the existing Transmission Loading Relief (TLR) procedures in CP&L's open-access transmission tariff, FERC Electric Tariff, Third Revised Vol. No. 3 and in FPC's open-access transmission tariff, FERC Electric Tariff, Second Revised Vol. No. 6 with the revised TLR procedures proposed by the North American Electric Reliability Counsel (NERC), and accepted by the Commission in North American Electric Reliability Council, 110 FERC ¶ 61,388 (2005). CP&L states requests an effective date of April 1, 2005.

CP&L states that copies of the filing were served upon the utilities' transmission customers and on the North Carolina Utilities Commission, the Public Service Commission of South Carolina, and the Florida Public Service Commission.

Comment Date: 5 p.m. Eastern Time on May 20, 2005.

9. Tampa Electric Company

[Docket No. ER05-884-000]

Take notice that on April 29, 2005, Tampa Electric Company (Tampa Electric) tendered for filing revised rate schedule sheets containing updated caps on energy charges for emergency assistance service under its interchange service contract with Alabama Power Company, Georgia Power Company, Gulf Power Company, Mississippi Power Company, and Savannah Electric and Power Company, as represented by agent Southern Company Services, Inc. (collectively, Southern Companies). Tampa Electric requests an effective date of May 1, 2005.

Tampa Electric states that a copy of the filing has been served upon Southern Companies and the Florida Public Service Commission.

Comment Date: 5 p.m. Eastern Time on May 20, 2005.

10. Tampa Electric Company

[Docket No. ER05-883-000]

Take notice that on April 29, 2005, Tampa Electric Company (Tampa Electric) tendered for filing revised rate schedule sheets containing updated transmission service rates under its agreements to provide qualifying facility transmission service for Cargill Fertilizer, Inc. (Cargill) and Auburndale Power Partners, Limited Partnership (Auburndale). Tampa requests an effective date of May 1, 2005.

Tampa Electric states that copies of the filing have been served on Cargill, Auburndale, and the Florida Public Service Commission.

Comment Date: 5 p.m. Eastern Time on May 20, 2005.

11. MidAmerican Energy Company

[Docket No. ER05-886-000]

Take notice that on April 29, 2005, the MidAmerican Energy Company (MidAmerican) submitted a filing to confirm that its open Access Transmission Tariff is in compliance with the North American Electric Reliability Council's most recent version of its Transmission Loading Relief procedures.

Comment Date: 5 p.m. Eastern Time on May 20, 2005.

12. MidAmerican Energy Company

[Docket No. ER05-901-000]

Take notice that on April 29, 2005, Tampa Electric Company (Tampa Electric) tendered for filing revised rate schedule sheets containing updated rates for emergency interchange service and scheduled/short-term firm interchange service under its interchange contract with each of 17 other utilities. Tampa Electric also tendered for filing revised sheets for inclusion in its open access transmission tariff (OATT) that contain an updated system average transmission loss percentage. Tamp Electric requests an effective date of May 1, 2005.

Tampa Electric states that a copy of the filing has been served upon each of the parties to the affected interchange contracts and each customer under its OATT, as well as the Florida and Georgia Public Service Commissions.

Comment Date: 5 p.m. Eastern Time on May 20, 2005.

13. Virginia Electric and Power Company

[Docket No. ER05-902-000]

Take notice that on April 29, 2005, Virginia Electric and Power Company (VEPCO), tendered for filing Third Revised Rate Schedule FERC No. 132, an agreement with the Southeastern Power Administration (SEPA). VEPCO states that the revised sheets incorporate changes to reflect VEPCO's commencement of operations as a member of the PJM Interconnection, L.L.C. and make other changes to the arrangements between VEPCO and SEPA with respect to the use by certain of the VEPCO's wholesale customers of capacity and energy from SEPA's hydroelectric generating facilities. VEPCO requests an effective date of May 1, 2005.

VEPCO states that copies of the filing were served on SEPA and the Virginia State Corporation Commission.

Comment Date: 5 p.m. Eastern Time on May 20, 2005.

14. Consolidated Edison Energy Massachusetts

[Docket No. ER05-903-000]

Take notice that on April 29, 2005, Consolidated Edison Energy Massachusetts, Inc. (CEEMI) submitted for filing a Reliability Must Run Agreement between CEEMI, Consolidated Edison Energy, Inc., acting as Agent for CEEMI, and ISO New England Inc. (ISO-NE) for a 107 MW oil- and gas-fired steam electric operating unit located at a generation facility owned and operated by CEEMI in West Springfield, Massachusetts. CEEMI requests an effective date of May 1, 2005.

Comment Date: 5 p.m. Eastern Time on May 20, 2005.

15. Alliant Energy Corporate Services, Inc.

[Docket No. ER05-904-000]

Take notice that on April 28, 2005, Alliant Energy Corporate Services, Inc., (AECS) on behalf of Wisconsin Power and Light Company (WPL), submitted for filing with the Commission a Master Power Supply Agreement (Supply Agreement) between Great Lakes Utilities (GLU) and WPL. AECS states that under the Supply Agreement, WPL agrees to furnish and sell, and GLU agrees to purchase all of the electricity required by the following GLU members for service to their retail customers and for the operation of their electrical equipment: Wisconsin Rapids-West; Wisconsin Rapids-East; and Kiel. AECS requests an effective date of April 1, 2005.

AECS states that a copy of this filing has been served upon the Public Service Commission of Wisconsin.

Comment Date: 5 p.m. Eastern Time on May 20, 2005.

16. Celerity Energy Partners San Diego LLC

[Docket No. ER05-905-000]

Take notice that on April 29, 2005, Celerity Energy Partners San Diego LLC (Celerity-SD) tendered for filing, under section 205 of the Federal Power Act, a request for authorization to sell electricity at market-based rates under its market-based tariff. Celerity-SD requests an effective date of May 31, 2005.

Comment Date: 5 p.m. Eastern Time on May 20, 2005.

17. Virginia Electric and Power Company

[Docket No. ER05-906-000]

Take notice that on April 29, 2005 Virginia Electric and Power Company, (VEPCO) tendered for filing a Notice of Cancellation and an Order No. 614 compliant canceled rate schedule sheet terminating the Interconnection and Operating Agreement between the VEPCO and Old Dominion Electric Cooperative (ODEC). VEPCO requests an effective date of May 1, 2005.

VEPCO states that copies of the filing were served upon ODEC.

Comment Date: 5 p.m. Eastern Time on May 20, 2005.

18. Western Electricity Coordinating Council

[Docket No. ER05-907-000]

Take notice that on April 29, 2005, the Western Electricity Coordinating Council (WECC) filed with the Commission a Fifth Amendment to the Reliability Criteria Agreement under the WECC's Reliability Management System. The WECC states that the Fifth Amendment makes the following modifications and additions to the criteria agreement: (1) incorporates changes to the qualified path unscheduled flow relief criterion approved by the WECC Board of Directors, and (2) corrects an incorrect section cross-reference. The WECC requests an effective date of May 1, 2005.

Comment Date: 5 p.m. Eastern Time on May 20, 2005.

19. El Paso Electric Company

[Docket No. ER05-908-000]

Take notice that El Paso Electric Company (EPE), on April 29, 2005, tendered for filing proposed changes in its Rate Schedule FERC No. 16 between EPE and Public Service Company of New Mexico (PNM). EPE requests an effective date of July 1, 2005.

EPE states that copies of the filing were served upon PNM.

Comment Date: 5 p.m. Eastern Time on May 20, 2005.

20. Black Hills Power, Inc.

[Docket No. ER05-909-000]

Take notice that on April 29, 2005, Black Hills Power, Inc. (Black Hills Power), as Joint Tariff Administrator of the Joint Open Access Transmission Tariff of Black Hills Power, Basin Electric Power Cooperative, and Powder River Energy Corporation Commission several long-term transmission service agreements under the Joint Tariff.

Comment Date: 5 p.m. Eastern Time on May 20, 2005.

21. California Power Exchange Corporation

[Docket No. ER05-910-000]

Take notice that on April 29, 2005, the California Power Exchange Corporation (CalPX) tendered for filing its rate schedule for Rate Period 7, the period from July 1, 2005 through December 31, 2005. CalPX states that it filed this rate schedule pursuant to the Commission's Orders of August 8, 2002 (100 FERC ¶ 61,178) in Docket No. ER02-2234-000, and April 1, 2003 (103 FERC ¶ 61,001) issued in Docket Nos. EC03-20-000 and EC03-20-001, which require CalPX to make a new rate filing every six months to recover current expenses. CalPX also states that the rate schedule therefore covers expenses projected for the period July 1, 2005 through December 31, 2005, and CalPX requests an effective date of July 1, 2005. CalPX also proposes a methodology to allocate CalPX's expenses for both Rate Period 7 and retroactively for Rate Periods 1 through 6, or alternatively, proposes that the Commission defer the determination of an allocation methodology and billing thereon until after a determination of who owes what to whom in the Refund Proceeding.

CalPX states that it has served copies of the filing on its participants, on the California ISO, the California Public Utilities Commission, and the California Electricity Oversight Board.

Comment Date: 5 p.m. Eastern Time on May 20, 2005.

22. Pacific Gas and Electric Company

[Docket No. ER05-911-000]

Take notice that on April 29, 2005, Pacific Gas and Electric Company (PG&E) tendered for filing 5 Large facilities agreements and 15 small facilities agreements, submitted pursuant to the Procedures for Implementation of section 3.3 of the 1987 Agreement between PG&E and the City and County of San Francisco (City) (Procedures) that were approved by this Commission in FERC Docket No. ER99-2532-000 and recently updated in a negotiated Clarifying Supplement filed in the Parties' Settlement in FERC Docket No. ER04-215-000. PG&E's ninth quarterly filing submitted pursuant to section 4 of the procedures, which provides for the quarterly filing of facilities and the third filing of executed agreements pursuant to the clarifying supplement.

The quarterly filing process streamlines the procedures for filing numerous facilities, and facilitates payment of PG&E's costs of designing, constructing, procuring, testing, placing in operation, owning, operating and maintaining the customer-specific facilities required for firm transmission and distribution service requested by City under these facilities agreements.

PG&E states that copies of this filing have been e-served upon City, the California Independent System Operator Corporation, and the California Public Utilities Commission.

Comment Date: 5 p.m. Eastern Time on May 20, 2005.

23. Calpine Construction Finance Company, L.P.

[Docket No. ER05-912-000]

Take notice that on April 29, 2005, Calpine Construction Finance Company, L.P. (CCFC) submitted for filing, pursuant to section 205 of the Federal Power Act (16 U.S.C. 824d), and part 35 of the Commission's regulations (18 CFR 35), a rate schedule for reactive power from the Sutter Energy Center. CCFC requests an effective date of June 1, 2005.

Comment Date: 5 p.m. Eastern Time on May 20, 2005.

24. PJM Interconnection, L.L.C.

[Docket No. ER05-913-000]

Take notice that on April 29, 2005, PJM Interconnection, L.L.C. (PJM) submitted for filing revisions to the PJM Open Access Transmission Tariff and the Amended and Restated Operating Agreement of PJM Interconnection, L.L.C. to incorporate language accepted by the Commission in prior versions of these documents, but not previously integrated into the current effective tariff sheets, and to correct minor typographical and formatting errors. PJM requests an effective date of May 1, 2005.

PJM states that copies of this filing have been served electronically on all PJM members and each state electric utility regulatory commission in the PJM region, and asks for any waivers necessary to allow such electronic service.

Comment Date: 5 p.m. Eastern Time on May 20, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-2351 Filed 5-11-05; 8:45 am]

BILLING CODE 6717-01-P